DEPARTMENT OF THE INTERIOR

Fish and Wildlife Service

Endangered and Threatened Wildlife and Plants; Initiation of 5-Year Reviews of the Valley Elderberry Longhorn Beetle, Smith's Blue Butterfly, Delhi Sands Flower-Loving Fly, Morro Shoulderband Snail, Giant Garter Snake, San Francisco Garter Snake, Island Night Lizard, California Least Tern, Least Bell's Vireo, Chinese Camp Brodiaea, Mariposa Pussypaws, San Clemente Island Indian Paintbrush, Spring-Loving Centaury, Springville Clarkia, San Clemente Island Larkspur, Santa Barbara Island Dudleya, Ash Meadows Gumplant, San Clemente Island Woodland Star, San Clemente Island Lotus, San Clemente Island Bush Mallow, Amargosa Niterwort, Eureka Valley Evening Primrose, Yreka Phlox, Hartweg's Golden Sunburst, San Joaquin Adobe Sunburst, Santa Cruz Island Rock-Cress, Keck's Checker-mallow, Eureka Dune Grass, Kneeland Prairie Pennycress, Hidden Lake Bluecurls, and Red Hills Vervain

AGENCY: Fish and Wildlife Service, Interior.

ACTION: Notice of review.

SUMMARY: We, the U.S. Fish and Wildlife Service, announce the initiation of 5-year reviews of 31 listed species in Table 1 below, under section 4(c)(2)(A) of the Endangered Species Act (Act). The purpose of a 5-year review is to ensure that the classification of a species as threatened or endangered on the List of Endangered and Threatened Wildlife and Plants is accurate and based on the best scientific and commercial data available at the time of the review. We are requesting submission of any such information that has become available since the original listing of each of these 31 species. Based on the results of these 5-year reviews, we will make the requisite findings under section 4(c)(2)(B) of the Act.

Table 1.—Summary of the Listing Information for the Following 31 Species
Common name | Scientific name | Status | Where listed | Final listing rule
Valley elderberry longhorn beetle | Desmocerus californicus dimorphus | Threatened | U.S.A. (CA) | 45 FR 52803 (8-AUG-80)
Smith's blue butterfly | Euphilotes enoptes smithi | Endangered | U.S.A. (CA) | 41 FR 22041 (1-JUN-76)
Delhi Sands flower loving fly | Rhaphiomidas terminatus abdominalis | Endangered | U.S.A. (CA) | 58 FR 49881 (23-SEP-93)
Morro shoulderband snail | Helminthoglypta walkeriana | Endangered | U.S.A. (CA) | 59 FR 64613 (15-DEC-94)
Giant garter snake | Thamnophis gigas | Threatened | U.S.A. (CA) | 58 FR 54053 (20-OCT-93)
San Francisco garter snake | Thamnophis sirtalis tetrataenia | Endangered | U.S.A. (CA) | 32 FR 4001 (11-MAR-67)
Island night lizard | Xantusia riversiana tetrataenia | Threatened | U.S.A. (CA) | 42 FR 40682 (11-AUG-77)
California least tern | Sterna antillarum browni | Endangered | U.S.A. (CA) Mexico | 35 FR 8491 (2-JUN-70)
Least Bell's vireo | Vireo bellii pusillus | Endangered | U.S.A. (CA) Mexico | 1 FR 16474 (2-MAY-86)
Chinese Camp brodiaea | Brodiaea pallida | Threatened | U.S.A. (CA) | 63 FR 49022 (14-SEP-98)
Mariposa pussypaws | Calyptridium pulchellum | Threatened | U.S.A. (CA) | 63 FR 49022 (14-SEP-98)
San Clemente Island Indian Paintbrush | Castilleja grisea | Endangered | U.S.A. (CA) | 42 FR 40682 (11-AUG-77)
Spring-loving centaury | Centaurium namophilum | Threatened | U.S.A. (CA, NV) | 50 20777 (20-MAY-85)
Springville clarkia | Clarkia springvillensis | Threatened | U.S.A. (CA) | 63 FR 49022 (14-SEP-98)
San Clemente Island larkspur | Delphinium variegatum var. kinkiense | Endangered | U.S.A. (CA) | 42 FR 40682 (11-AUG-77)
Santa Barbara Island dudleya | Dudleya traskiae | Endangered | U.S.A. (CA) | 43 FR 17910 (26-APR-78)
Ash meadows gumplant | Grindelia fraxino-pratensis | Threatened | U.S.A. (CA, NV) | 50 FR 20777 (20-MAY-85)
San Clemente Island woodland star | Lithophragma maximum | Endangered | U.S.A. (CA) | 62 FR 42692 (8-AUG-97)
San Clemente Island lotus | Lotus dendroideus var. traskiae | Endangered | U.S.A. (CA) | 42 FR 40682 (11-AUG-77)
San Clemente Island bush mallow | Malacothamnus clementinus | Endangered | U.S.A. (CA) | 42 FR 40682 (11-AUG-77)
Amargosa niterwort | Nitrophila mohavensis | Endangered | U.S.A. (CA, NV) | 50 FR 20777 (20-MAY-85)
Eureka Valley evening primrose | Oenothera californica ssp. eurekensis | Endangered | U.S.A. (CA) | 43 FR 17910 (26-APR-78)
Yreka phlox | Phlox hirsuta | Endangered | U.S.A. (CA) | 65 FR 5268 (3-FEB-00)
Hartweg's golden sunburst | Pseudobahia bahiifolia | Endangered | U.S.A. (CA) | 62 FR 5542 (6-FEB-97)
San Joaquin adobe sunburst | Pseudobahia peirsonii | Threatened | U.S.A. (CA) | 62 FR 5542 (6-FEB-97)
Santa Cruz Island rock-cress | Sibara filifolia | Endangered | U.S.A. (CA) | 62 FR 42692 (8-AUG-97)
Keck's checker-mallow | Sidalcea keckii | Endangered | U.S.A. (CA) | 65 FR (16-FEB-00)
Eureka Dune grass | Swallenia alexandrae | Endangered | U.S.A. (CA) | 43 FR 17910 (26-APR-78)
Kneeland Prairie pennycress | Thlaspi californicum | Endangered | U.S.A. (CA) | 65 FR 6332 (9-SEP-00)
Hidden Lake bluecurls | Trichostema austromontanum ssp. compactum | Threatened | U.S.A. (CA) | 63 FR 49006 (14-SEP-98)
Red Hills vervain | Verbena californica | Threatened | U.S.A. (CA) | 63 FR 49022 (14-SEP-98)

DATES: To allow us adequate time to conduct these reviews, we must receive your information no later than September 6, 2005. However, we will continue to accept new information about any listed species at any time.

ADDRESSES: Information may be submitted to the following U.S. Fish and Wildlife Service's Fish and Wildlife Offices:

For the Delhi Sands flower-loving fly, island night lizard, California least tern, least Bell's vireo, San Clemente Island Indian paintbrush, San Clemente Island larkspur, San Clemente Island woodland star, San Clemente Island lotus, San Clemente Island bush mallow, Santa Cruz Island rock-cress, and Hidden Lake bluecurls, submit comments to the Field Supervisor, Attention: 5-Year Review, U.S. Fish and Wildlife Service, Carlsbad Fish and Wildlife Office, 6010 Hidden Valley Road, Carlsbad, California 92009. Information may also be submitted electronically at fw1cfwo_5yr@fws.gov.

For the Smith's blue butterfly, Morro shoulderband snail, Santa Barbara Island dudleya, Eureka Valley evening primrose, and Eureka Dune grass, submit comments to the Field Supervisor, Attention: 5-Year Review, U.S. Fish and Wildlife Service, Ventura Fish and Wildlife Office, 2493 Portola Road, Suite B, Ventura, California 93003. Information may also be submitted electronically at FW1vfwo5year@fws.gov.

For the Valley elderberry longhorn beetle, giant garter snake, San Francisco garter snake, Chinese Camp brodiaea, Mariposa pussypaws, Springville clarkia, Hartweg's golden sunburst, San Joaquin adobe sunburst, Keck's checker-mallow, and Red Hills vervain, submit comments to the Field Supervisor, Attention: 5-Year Review, U.S. Fish and Wildlife Service, Sacramento Fish and Wildlife Office, 2800 Cottage Way, Room W-2605, Sacramento, California 95825. Information may also be submitted electronically at fw1sfo5year@fws.gov.

For Ash Meadows gumplant, spring-loving centaury, and Amargosa niterwort, submit comments to the Field Supervisor, Attention: 5-Year Review, U.S. Fish and Wildlife Service, Nevada Fish and Wildlife Office, 1340 Financial Blvd., Suite 234, Reno, NV 89502. Information may also be submitted electronically at fw1nfwo_5yr@fws.gov.

For Kneeland Prairie pennycress, submit comments to the Field Supervisor, Attention: 5-Year Review, U.S. Fish and Wildlife Service, Arcata Fish and Wildlife Office, 11655 Heindon Road, Arcata, California 95521. Information may also be submitted electronically at FWS1_kneelandpennycress@fws.gov.

For Yreka phlox, submit comments to the Field Supervisor, Attention: 5-Year Review, U.S. Fish and Wildlife Service, Yreka Fish and Wildlife Office, 1829 S. Oregon Street, Yreka, California 96097. Information may also be submitted electronically at fw1yrekaphlox@fws.gov.

Information received in response to this notice and these reviews will be available for public inspection, by appointment, during normal business hours, at the appropriate above addresses.

FOR FURTHER INFORMATION CONTACT: For the Delhi Sands flower-loving fly, island night lizard, California least tern, least Bell's vireo, San Clemente Island Indian paintbrush, San Clemente Island larkspur, San Clemente Island woodland star, San Clemente Island lotus, San Clemente Island bush mallow, Santa Cruz Island rock-cress, or Hidden Lake bluecurls, contact Tannika Engelhard at the Carlsbad Fish and Wildlife Office at (760) 431-9440. For the Smith's blue butterfly, Morro shoulderband snail, Santa Barbara Island dudleya, Eureka Valley evening primrose, or Eureka Dune grass, contact Mike McCrary at the Ventura Fish and Wildlife Office at (805) 644-1766. For the Valley elderberry longhorn beetle, giant garter snake, San Francisco garter snake, Chinese Camp brodiaea, Mariposa pussypaws, Springville clarkia, Hartweg's golden sunburst, San Joaquin adobe sunburst, Keck's checker-mallow, and Red Hills vervain, contact Harry McQuillen at the Sacramento Fish and Wildlife Office at (916) 414-6742. For Ash Meadows gumplant, spring-loving centaury, Amargosa niterwort, contact Steve Caicco at the Nevada Fish and Wildlife Office at (775) 861-6300. For Kneeland Prairie pennycress, contact Dave Imper at the Arcata Fish and Wildlife Office at (707) 822-7201. For Yreka phlox, contact Nadine Kanim at the Yreka Fish and Wildlife Office at (530) 842-5763.

SUPPLEMENTARY INFORMATION:

Why Is a 5-Year Review Conducted?

Under the Endangered Species Act (Act) (16 U.S.C. 1531 et seq.) we maintain a List of Endangered and Threatened Wildlife and Plants at 50 CFR 17.11 (for animals) and 17.12 (for plants). Section 4(c)(2)(A) of the Act requires that we conduct a review of listed species at least once every 5 years. Then, on the basis of such reviews, under section 4(c)(2)(B) we determine whether or not any species should be removed from the List (delisted), or reclassified from endangered to threatened or from threatened to endangered. Delisting a species must be supported by the best scientific and commercial data available and only considered if such data substantiates that the species is neither endangered nor threatened for one or more of the following reasons: (1) the species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of 31 species listed in Table 1 above.

What Information Is Considered in the Review?

A 5-year review considers all new information available at the time of the review. These reviews will consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species Is Endangered or Threatened?”); and

E. Other new information, data, or corrections including, but not limited to, taxonomic or nomenclatural changes, identification of erroneous information contained in the List, and improved analytical methods.

How Do We Determine Whether a Species is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find that there is information concerning the 31 species listed in Table 1 above indicating a change in classification may be warranted, we may propose a new rule that could do one of the following: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we are soliciting new information from the public, concerned governmental agencies, Tribes, the scientific community, industry, environmental entities, and any other interested parties concerning the status of the 31 species listed in Table 1 above.

If you wish to provide information for any species included in these 5-year reviews, you may submit your comments and materials to the Field Supervisors at the appropriate Fish and Wildlife Office in the ADDRESSES section above. Our practice is to make comments, including names and home addresses of respondents, available for public review during regular business hours. Respondents may request that we withhold a respondent's identity, as allowable by law. If you wish us to withhold your name or address, you must state this request prominently at the beginning of your comment. We will not consider anonymous comments, however. To the extent consistent with applicable law, we will make all submissions from organizations or businesses, and from individuals identifying themselves as representatives or officials of organizations or businesses, available for public inspection in their entirety. Comments and materials received will be available for public inspection, by appointment, during normal business hours (see ADDRESSES section).

Authority: This document is published under the authority of the Endangered Species Act of 1973, as amended (16 U.S.C. 1531 et seq.).

Dated: June 16, 2005.
Paul Henson,
Acting Manager, California/Nevada Operations Office, U.S. Fish and Wildlife Service.

[FR Doc. 05-13328 Filed 7-6-05; 8:45 am]

BILLING CODE 4310-55-P